Proclamation 10512 of December 30, 2022

National Stalking Awareness Month, 2023

By the President of the United States of America

A Proclamation

During National Stalking Awareness Month, we shine a light on the insidious crime of stalking, recommit to protecting survivors, and reaffirm that every American deserves to live free from fear, intimidation, and threats to their physical safety and emotional well-being.

Studies show that more than 3 million people aged 16 or older are victims of stalking on an annual basis in the United States. Being stalked, whether in-person or online, means having to worry about your safety at work, at school, in public, and even at home. It can mean having to uproot your life, leave your job, and suffer physical and psychological harms. One of the driving forces of my career has been fighting back against abuses of power. That is why I was proud to write and champion the groundbreaking Violence Against Women Act (VAWA) as a United States Senator, landmark legislation that first passed in 1994. In the nearly three decades since, I have worked with Members of the Congress from both parties to renew and strengthen VAWA three times in 2000, 2005, and 2013. And I was proud to sign its reauthorization this year. The 2022 reauthorization law increases resources and support for law enforcement to investigate and prosecute stalkers and offenders of gender-based violence. It extends legal protections for survivors as well as access to transitional housing when they flee unsafe homes. It expands recognition of Tribal courts' jurisdiction over non-Native perpetrators to include stalking, sexual assault, child abuse, and sex trafficking. Additionally, VAWA calls on the Attorney General to develop a national strategy to address the rising rate of cybercrimes, including cyberstalking.

As President, I also created the White House Task Force to Address Online Harassment and Abuse, which is co-chaired by the Gender Policy Council and the National Security Council to expand on these efforts and coordinate a Federal approach to preventing and addressing technology-facilitated gender-based violence. The taskforce is producing recommendations for State governments, technology platforms, schools, and other public and private entities to combat cyberstalking and other online abuses. At the same time, it is working closely with survivors, advocates, and parents to promote the safety of communities most impacted by online abuse, including women, girls, and LGBTQI+ individuals.

Cracking down on stalking and helping victims heal must be a government-wide effort. Since I took office, the Department of Justice has provided nearly $970 million in grants to help victim service providers, law enforcement agencies, prosecutors, courts, and community-based organizations prevent and address domestic violence, sexual assault, stalking, and dating violence. And the Department of Housing and Urban Development has provided 70,000 emergency housing vouchers to assist individuals and families who are homeless or at-risk of homelessness, including victims of domestic violence, sexual assault, stalking, and human trafficking. In June, I also signed the Bipartisan Safer Communities Act into law—the first major bipartisan gun safety legislation in more than 30 years—which requires young people ages 18 to 21 to undergo enhanced background checks, narrows the “boyfriend loophole” to keep guns out of the hands of dating partners convicted of misdemeanor crimes of domestic violence, funds crisis intervention, including red flag laws, and services to address the trauma experienced by survivors of gun violence.

It is essential that we bring these offenses out of the shadows, making it unmistakably clear that violence, displays of unwanted attention that cause someone to fear for their safety or suffer substantial emotional distress, and other abuses of power will not stand. This month, let us strengthen stalking prevention efforts, amplify the voices of survivors, and hold stalkers accountable. We can—and must—advance a safer and more just America for all.

NOW, THEREFORE, I, JOSEPH R. BIDEN JR., President of the United States of America, by virtue of the authority vested in me by the Constitution and the laws of the United States, do hereby proclaim January 2023 as National Stalking Awareness Month. I call on all Americans to speak out against stalking and to support the efforts of advocates, courts, service providers, and law enforcement to help those who are targeted and send the message to perpetrators that these crimes will not go unpunished.

IN WITNESS WHEREOF, I have hereunto set my hand this thirtieth day of December, in the year of our Lord two thousand twenty-two, and of the Independence of the United States of America the two hundred and forty-seventh.

[FR Doc. 2023-00094

Filed 1-4-23; 8:45 am]

Billing code 3395-F3-P